DEPARTMENT OF ENERGY

Agency Information Collection Extension

AGENCY: Office of Energy Efficiency and Renewable Energy, Department of Energy.

ACTION: Notice and request for comments.

SUMMARY: The Department of Energy (DOE), pursuant to the Paperwork Reduction Act of 1995, intends to extend for three years, an information collection request with the Office of Management and Budget (OMB).

DATES: Comments regarding this proposed information collection must be received on or before August 2, 2022. If you anticipate difficulty in submitting comments within that period, contact the person listed in the FOR FURTHER INFORMATION CONTACT section as soon as possible.

ADDRESSES: Written comments may be sent to Maria Vargas, EE-5A/Forrestal Building, 1000 Independence Avenue SW, Washington, DC 20585, by fax at (202) 586-8177, or by email at maria.vargas@ee.doe.gov.

FOR FURTHER INFORMATION CONTACT: Requests for additional information or copies of the information collection instrument and instructions should be directed to Maria Vargas, EE-5A/Forrestal Building, 1000 Independence Avenue SW, Washington, DC 20585, by fax at (202) 586-8177, or by email at maria.vargas@ee.doe.gov or by telephone (202) 586-7899.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5141;

(2) Information Collection Request Title: Department of Energy Better Buildings Initiative Voluntary Pledge Program;

(3) Type of Review: Extension with Revision of a Currently Approved Collection;

(4) Purpose: This Information Collection Request applies to four Department of Energy (DOE) voluntary leadership initiatives that fall under DOE's Better Buildings Initiative: (1) The Better Buildings Challenge; (2) the Better Buildings, Better Plants Program (Better Plants); (3) the Better Buildings Alliance; and (4) the Better Climate Challenge. Five new information collection instruments are proposed so that Better Climate Challenge partners can share details about their projects and submit annual portfolio-wide emissions reductions data, and additionally so that the program may collect updates regarding partner's waste reduction progress. Other pre-existing collection forms are being amended for clarity and to reduce burden on respondents. Also, the total number of respondents and response time for individual program areas is being adjusted to align with practical experience and to account for changes to the program growth over time. For example, because many Better Buildings and Better Plants partners have joined the Better Climate Challenge, we anticipate a reduction in the amount time spent on Better Buildings and Better Plants documents as these organizations focus their efforts on the Better Climate Challenge.

The leadership initiatives in the Better Buildings Initiative covered under this Information Collection Request are intended to drive greater energy, water efficiency, and emissions reduction in the commercial, public, residential, data center, and industrial marketplace to reduce pollution, cut costs, and create jobs. This is accomplished by highlighting the ways participants overcome market barriers to greater efficiency and decarbonization with replicable solutions. The program showcases real solutions and partners with industry leaders to better understand policy and technical opportunities. There are three types of information to be collected from primary participants, also referred to as “Partners:” (1) Background data, including contact information, a partnership agreement form, logo(s), information needed to support public announcements, updates on participants' showcase projects, and an energy savings/emissions reductions goals; (2) Portfolio-wide energy performance information; and (3) Information on market innovations participants are including in their energy efficiency and decarbonization processes. Background data is primarily used to develop website content that is publically available. Portfolio-wide facility-level energy performance and emissions reduction information is used by DOE to measure the participants' progress in meeting the goals of the program, as well as to aggregate the change in energy and decarbonization performance and related metrics for the entire program. Information on market innovation is used to highlight successful strategies participants use to overcome challenges, and is made publicly available. Additional background information is being collected from “Allies,” which are financial organizations that make a public commitment to support energy efficiency and decarbonization. Background information including name, dollars committed to the market, and a company logo is also used to develop publically available website content. Responses to the DOE's Information Collection Request are voluntary.

(5) Annual Estimated Number of Respondents: 841.

(6) Annual Estimated Number of Total Responses: 841.

(7) Annual Estimated Number of Burden Hours: 1,854.25.

(8) Annual Estimated Reporting and Recordkeeping Cost Burden: $84,869.

Statutory Authority: Section 421 of the Energy Independence and Security Act of 2007 (42 U.S.C. 17081); Section 911 of the Energy Policy Act of 2005, as amended (42 U.S.C. 16191).

Signing Authority

This document of the Department of Energy was signed on May 12, 2022, by Maria Vargas, Director of Better Buildings, Office of Energy Efficiency & Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 31, 2022.
Treena V. Garrett,
Federal Register Liaison Officer, U.S. Department of Energy.

[FR Doc. 2022-11950 Filed 6-2-22; 8:45 am]

BILLING CODE 6450-01-P